SURFACE TRANSPORTATION BOARD

[Docket No. EP 290 (Sub-No. 4)]

Railroad Cost Recovery Procedures—Productivity Adjustment

AGENCY: Surface Transportation Board.

ACTION: Presentation of the Board's calculation for the change in railroad productivity for the 2013-2017 averaging period.

SUMMARY: In a decision served on March 11, 2019, the Board proposed to adopt 1.005 (0.5% per year) as the measure of average (geometric mean) change in railroad productivity for the 2013-2017 (five-year) period. This represents an increase of 0.9% from the average for the 2012-2016 period. The Board's March 11, 2019 decision in this proceeding stated that comments may be filed addressing any perceived data and computational errors in the Board's calculation. The decision also stated that unless a further order is issued postponing the effective date, this decision is effective on March 29, 2019.

DATES: The productivity adjustment is effective March 29, 2019. Comments are due by March 26, 2019.

ADDRESSES: Comments may be submitted either via the Board's e-filing format or in paper format. Any person using e-filing should attach a document and otherwise comply with the instructions at the E-Filing link on the Board's website, at http://www.stb.gov. Any person submitting a filing in paper format should send the original and 10 copies to: Surface Transportation Board, Attn: Docket No. EP 290 (Sub-No. 4), 395 E Street SW, Washington, DC 20423-0001.

FOR FURTHER INFORMATION CONTACT: Pedro Ramirez at (202) 245-0333. Assistance for the hearing impaired is available through the Federal Information Relay Service (FIRS) at 1-800-877-8339.

SUPPLEMENTARY INFORMATION: The Board's decision is posted at http://www.stb.gov. Copies of the decision may be purchased by contacting the Board's Office of Public Assistance, Governmental Affairs, and Compliance at (202) 245-0238. Assistance for the hearing impaired is available through FIRS at 1-800-877-8339.

Authority: 49 U.S.C. 10708.

Decided: March 11, 2019.
By the Board, Board Members Begeman, Fuchs, and Oberman.
Jeffrey Herzig,
Clearance Clerk.

[FR Doc. 2019-04802 Filed 3-14-19; 8:45 am]

BILLING CODE 4915-01-P